DEPARTMENT OF HEALTH AND HUMAN SERVICES

Food and Drug Administration

21 CFR Part 17

Change of Address; Technical Amendment

AGENCY: Food and Drug Administration, HHS.

ACTION: Final rule; technical amendment.

SUMMARY: The Food and Drug Administration (FDA) is amending its regulations to reflect a change in the address for the Departmental Appeals Board (DAB). This action is editorial in nature and is intended to improve the accuracy of the agency's regulations.

DATES: This rule is effective February 6, 2006.

FOR FURTHER INFORMATION CONTACT: Joyce A. Strong, Office of Policy (HF-27), Food and Drug Administration, 5600 Fishers Lane, rm. 12A-31, Rockville, MD 20857, 301-827-7010.

SUPPLEMENTARY INFORMATION: This document amends FDA's regulations to reflect the address change of the DAB by removing the outdated address in § 17.47(a) (21 CFR 17.47(a)) and by adding the new address in its place.

Publication of this document constitutes final action on these changes under the Administrative Procedure Act (5 U.S.C. 553). Notice and public procedures are unnecessary because FDA is merely correcting nonsubstantive errors.

List of Subjects in 21 CFR Part 17

Administrative practice and procedure, Penalties.

Therefore, under the Federal Food, Drug, and Cosmetic Act and under authority delegated to the Commissioner of Food and Drugs, 21 CFR part 17 is amended as follows:

PART 17—CIVIL MONEY PENALTIES HEARINGS

1. The authority citation for 21 CFR part 17 continues to read as follows:

Authority: 21 U.S.C. 331, 333, 337, 351, 352, 355, 360, 360c, 360f, 360i, 360j, 371; 42 U.S.C. 262, 263b, 300aa-28; 5 U.S.C. 554, 555, 556, 557.

§ 17.47 [Amended]

2. Section 17.47 is amended in paragraph (a) by removing “rm. 637-D, Hubert H. Humphrey Bldg., 200 Independence Ave. SW., Washington, DC 20201” and by adding in its place “Appellate Division MS6127, Departmental Appeals Board, United States Department of Health and Human Services, 330 Independence Ave. SW., Cohen Bldg., rm. G-644, Washington, DC 20201”.

Dated: January 30, 2006.
Jeffrey Shuren,
Assistant Commissioner for Policy.

[FR Doc. 06-1040 Filed 2-3-06; 8:45 am]

BILLING CODE 4160-01-S